DEPARTMENT OF THE INTERIOR

Bureau of Land Management

[WY-040-00-1310-EJ]

Jonah Field Environmental Assessment, Sublette County, WY

AGENCY: Bureau of Land Management, Interior.

ACTION: Notice of availability of an Environmental Assessment (EA) addressing impacts associated with a modification to development of the Jonah Field, as approved by the Jonah II Natural Gas Project Final Environmental Impact Statement (EIS).

SUMMARY: This Environmental Assessment addresses modifications to the April 27, 1998, Record of Decision (ROD) for the Jonah Field II Natural Gas Project (EIS). In that ROD, BLM approved development of the Jonah Field at one gas well per 80 acres. Project proponents, McMurry Oil Company and Amoco Production Company, have requested BLM approval to develop the east half of the field at one well per 40 acres.

At this point, the analysis of the proposed project modification has resulted in a finding of no significant impact (FONSI). Should new or additional information be provided during the public review and comment period on the EA that would identify significant impacts resulting from the proposed project modification, the EA will become the draft supplemental EIS. Subsequently, a final EIS and ROD would be issued. The public will be notified through newspaper articles and a subsequent Federal Register notice, if significant impacts are identified and if the EA process will be replaced with the EIS process. If the FONSI is not reversed, the decision record for the EA will be prepared and issued.

DATES: Public comments concerning this proposed project modification will be accepted for 45 days following the date this notice is published in the Federal Register. Copies of the EA will have been distributed by mail to local media and known interested parties on or before the date this notice is published.

ADDRESSES: Send written comments to: Bureau of Land Management, Rock Springs Field Office, ATTN: Arlan Hiner, Project Manager, 280 Highway 191 North, Rock Springs, Wyoming 82901.

FOR FURTHER INFORMATION CONTACT: Arlan Hiner, Project Manager, Bureau of Land Management, Rock Springs Field Office, Telephone 307-352-0206. Information and a copy of the Jonah Field Natural Gas Project Modification EA can be obtained from Mr. Hiner at the above phone number or from the following BLM offices: Rock Springs Field Office, 280 Highway 191 North, Rock Springs, Wyoming 82901; Pinedale Field Office, 432 East Mill Street, P.O. Box 768, Pinedale, Wyoming 82941; and Wyoming State Office, 5353 Yellowstone Road, P.O. Box 1828, Cheyenne, Wyoming 82003.

SUPPLEMENTARY INFORMATION: The Jonah Field Natural Gas Project is located approximately 32 miles south of Pinedale, Wyoming, and 28 miles north of Farson, Wyoming, within Townships 28 and 29 North, Ranges 107, 108, and 109 West, Sublette County. The 29,200 acre project area includes 26,640 acres of Federally-owned surface and minerals, 640 acres of privately-owned surface over Federally-owned minerals, and 1,920 acres of surface and minerals owned by the State of Wyoming. Currently, 170 active gas wells, out of 497 wells approved in the Jonah II EIS ROD, have been drilled in the project area.

The project proponents would like to proceed with drilling gas wells in the east half of the project area at a 40 acre spacing (16 wells per section), beginning in the summer of 2000. They expect that drilling 497 wells will allow them to adequately extract the natural gas. There are 170 wells located within the Jonah Field, which are served by three transportation pipelines. This field development modification will not require any additional transportation pipelines. The proposed development modification would include a separator, dehydrator, production tanks, and tinhorns (for holding produced water) at each surface well location; an access road and gas gathering pipeline to each surface well location; water supply wells; and produced water disposal systems (either injection wells or surface pits).

The companies will be allowed to continue to drill wells at 80 acre spacing, as approved by the ROD for the Jonah II EIS, until the decision on the development modification is made.

Dated: March 29, 2000.
Alan R. Pierson,
State Director.

[FR Doc. 00-8438 Filed 4-5-00; 8:45 am]

BILLING CODE 4310-22-P